DEPARTMENT OF ENERGY

Federal Energy Regulatory Commission

[Docket No. EC00-136-000]

Madison Gas & Electric Company, Wisconsin Public Service Corporation, American Transmission Company, LLC; Notice of Filing

November 30, 2000.

Take notice that on November 29, 2000, Wisconsin Public Service Corporation (WPSC) tendered for filing a request for clarification of the Commission's November 24, 2000, order authorizing, inter alia, the disposition of WPSC's transmission facilities to American Transmission Company LLC (ATC LLC). The requested clarification relates to whether the Commission's order encompassed the issuance of the membership units in ATC LLC that are related to the WPSC transmission facilities, to a wholly-owned WPSC subsidiary (WPS LLC). If the requested clarification cannot be granted, then WPSC alternatively requests Commission authorization under section 203 of the FPA to effectuate the aspects of the transfer involving WPS LLC.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or December 11, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-31020 Filed 12-5-00; 8:45 am]

BILLING CODE 6717-01-M